DEPARTMENT OF ENERGY

Federal Energy Regulatory Commission

Combined Notice of Filings No. 2

December 1, 2010.

Take notice that the Commission received the following electric rate filings:

Docket Numbers: ER11-2250-000.

Applicants: PPL University Park, LLC.

Description: PPL University Park, LLC submits tariff filing per 35: PPL University Park, LLC's Notice of Change in Status Market-Based Rate Filing to be effective 11/1/2010.

Filed Date: 12/01/2010.

Accession Number: 20101201-5147.

Comment Date: 5 p.m. Eastern Time on Wednesday, December 22, 2010.

Docket Numbers: ER11-2251-000.

Applicants: PPL Wallingford Energy LLC.

Description: PPL Wallingford Energy LLC submits tariff filing per 35: PPL Wallingford Energy, LLC's Notice of Change in Status MBR Filing to be effective 11/1/2010.

Filed Date: 12/01/2010.

Accession Number: 20101201-5150.

Comment Date: 5 p.m. Eastern Time on Wednesday, December 22, 2010.

Docket Numbers: ER11-2252-000.

Applicants: EDFD-West Valley.

Description: EDFD-West Valley submits tariff filing per 35.15: West Valley Cancellation Filing to be effective 12/2/2010.

Filed Date: 12/01/2010.

Accession Number: 20101201-5179.

Comment Date: 5 p.m. Eastern Time on Wednesday, December 22, 2010.

Docket Numbers: ER11-2253-000.

Applicants: EDF Inc.

Description: EDF Inc. submits tariff filing per 35.15: EDF Tariff Cancellation Filing to be effective 12/2/2010.

Filed Date: 12/01/2010.

Accession Number: 20101201-5182.

Comment Date: 5 p.m. Eastern Time on Wednesday, December 22, 2010.

Docket Numbers: ER11-2254-000.

Applicants: BE Alabama LLC.

Description: BE Alabama LLC submits tariff filing per 35: Order 697 Compliance Filing to be effective 12/1/2010.

Filed Date: 12/01/2010.

Accession Number: 20101201-5183.

Comment Date: 5 p.m. Eastern Time on Wednesday, December 22, 2010.

Docket Numbers: ER11-2255-000.

Applicants: BE Allegheny LLC.

Description: BE Allegheny LLC submits tariff filing per 35: Order 697 Compliance Filing to be effective 12/1/2010.

Filed Date: 12/01/2010.

Accession Number: 20101201-5184.

Comment Date: 5 p.m. Eastern Time on Wednesday, December 22, 2010.

Docket Numbers: ER11-2256-000.

Applicants: California Independent System Operator Corporation.

Description: California Independent System Operator Corporation submits tariff filing per 35.13(a)(2)(iii): 2010-12-01 CAISO's Capacity Procurement Mechanism Amendment to be effective 4/1/2011.

Filed Date: 12/01/2010.

Accession Number: 20101201-5185.

Comment Date: 5 p.m. Eastern Time on Wednesday, December 22, 2010.

Docket Numbers: ER11-2257-000.

Applicants: BE Ironwood LLC.

Description: BE Ironwood LLC submits tariff filing per 35: Order 697 Compliance Filing to be effective 12/1/2010.

Filed Date: 12/01/2010.

Accession Number: 20101201-5186.

Comment Date: 5 p.m. Eastern Time on Wednesday, December 22, 2010.

Docket Numbers: ER11-2258-000.

Applicants: EDFD-Handsome Lake.

Description: EDFD-Handsome Lake submits tariff filing per 35.15: EDFD-Handsome Lake Tariff Cancellation Filing to be effective 12/2/2010.

Filed Date: 12/01/2010.

Accession Number: 20101201-5187.

Comment Date: 5 p.m. Eastern Time on Wednesday, December 22, 2010.

Docket Numbers: ER11-2259-000.

Applicants: BE CA LLC.

Description: BE CA LLC submits tariff filing per 35: Order 697 Compliance Filing to be effective 12/1/2010.

Filed Date: 12/01/2010.

Accession Number: 20101201-5188.

Comment Date: 5 p.m. Eastern Time on Wednesday, December 22, 2010.

Docket Numbers: ER11-2260-000.

Applicants: BE KJ LLC.

Description: BE KJ LLC submits tariff filing per 35: Order 697 Compliance Filing to be effective 12/1/2010.

Filed Date: 12/01/2010.

Accession Number: 20101201-5189.

Comment Date: 5 p.m. Eastern Time on Wednesday, December 22, 2010.

Docket Numbers: ER11-2261-000.

Applicants: BE Louisiana LLC.

Description: BE Louisiana LLC submits tariff filing per 35: Order 697 Compliance Filing to be effective 12/1/2010.

Filed Date: 12/01/2010.

Accession Number: 20101201-5190.

Comment Date: 5 p.m. Eastern Time on Wednesday, December 22, 2010.

Docket Numbers: ER11-2262-000.

Applicants: BE Rayle LLC.

Description: BE Rayle LLC submits tariff filing per 35: Order 697 Compliance Filing to be effective 12/1/2010.

Filed Date: 12/01/2010.

Accession Number: 20101201-5191.

Comment Date: 5 p.m. Eastern Time on Wednesday, December 22, 2010.

Docket Numbers: ER11-2263-000.

Applicants: Cedar Brakes I, L.L.C.

Description: Cedar Brakes I, L.L.C. submits tariff filing per 35: Order 697 Compliance Filing to be effective 12/1/2010.

Filed Date: 12/01/2010.

Accession Number: 20101201-5192.

Comment Date: 5 p.m. Eastern Time on Wednesday, December 22, 2010.

Docket Numbers: ER11-2264-000.

Applicants: Cedar Brakes II, L.L.C.

Description: Cedar Brakes II, L.L.C. submits tariff filing per 35: Order 697 Compliance Filing to be effective 12/1/2010.

Filed Date: 12/01/2010.

Accession Number: 20101201-5193.

Comment Date: 5 p.m. Eastern Time on Wednesday, December 22, 2010.

Docket Numbers: ER11-2265-000.

Applicants: Brush Cogeneration Partners.

Description: Brush Cogeneration Partners submits tariff filing per 35.13(a)(2)(iii): Brush Cogeneration ETariff Amend to be effective 12/30/2010.

Filed Date: 12/01/2010.

Accession Number: 20101201-5194.

Comment Date: 5 p.m. Eastern Time on Wednesday, December 22, 2010.

Docket Numbers: ER11-2266-000.

Applicants: Keystone Generation, LLC.

Description: Keystone Generation, LLC submits tariff filing per 35.15: Keystone Tariff Cancellation Filing to be effective 12/2/2010.

Filed Date: 12/01/2010.

Accession Number: 20101201-5195.

Comment Date: 5 p.m. Eastern Time on Wednesday, December 22, 2010.

Docket Numbers: ER11-2267-000.

Applicants: Central Power & Lime LLC.

Description: Central Power & Lime LLC submits tariff filing per 35: Order 697 Compliance Filing to be effective 12/1/2010.

Filed Date: 12/01/2010.

Accession Number: 20101201-5196.

Comment Date: 5 p.m. Eastern Time on Wednesday, December 22, 2010.

Docket Numbers: ER11-2268-000.

Applicants: Vineland Energy LLC.

Description: Vineland Energy LLC submits tariff filing per 35: Order 697 Compliance Filing to be effective 12/1/2010.

Filed Date: 12/01/2010.

Accession Number: 20101201-5198.

Comment Date: 5 p.m. Eastern Time on Wednesday, December 22, 2010.

Docket Numbers: ER11-2269-000.

Applicants: Utility Contract Funding, L.L.C.

Description: Utility Contract Funding, L.L.C. submits tariff filing per 35: Order 697 Compliance Filing to be effective 12/1/2010.

Filed Date: 12/01/2010.

Accession Number: 20101201-5199.

Comment Date: 5 p.m. Eastern Time on Wednesday, December 22, 2010.

Docket Numbers: ER11-2270-000.

Applicants: J.P. Morgan Commodities Canada Corporation.

Description: J.P. Morgan Commodities Canada Corporation submits tariff filing per 35: Order 697 Compliance Filing to be effective 12/1/2010.

Filed Date: 12/01/2010.

Accession Number: 20101201-5201.

Comment Date: 5 p.m. Eastern Time on Wednesday, December 22, 2010.

Docket Numbers: ER11-2271-000.

Applicants: Conemaugh Generation, LLC.

Description: Conemaugh Generation, LLC submits tariff filing per 35.15: Conemaugh Tariff Cancellation Filing to be effective 12/2/2010.

Filed Date: 12/01/2010.

Accession Number: 20101201-5202.

Comment Date: 5 p.m. Eastern Time on Wednesday, December 22, 2010.

Docket Numbers: ER11-2272-000.

Applicants: J.P. Morgan Ventures Energy Corporation.

Description: J.P. Morgan Ventures Energy Corporation submits tariff filing per 35: Order 697 Compliance Filing to be effective 12/1/2010.

Filed Date: 12/01/2010.

Accession Number: 20101201-5203.

Comment Date: 5 p.m. Eastern Time on Wednesday, December 22, 2010.

Docket Numbers: ER11-2273-000.

Applicants: South Carolina Electric & Gas Transmission.

Description: South Carolina Electric & Gas Transmission submits tariff filing per 35.13(a)(2)(iii): Rate Schedule Change Other Than Rate Increases to be effective 12/1/2010.

Filed Date: 12/01/2010.

Accession Number: 20101201-5204.

Comment Date: 5 p.m. Eastern Time on Wednesday, December 22, 2010.

Docket Numbers: ER11-2274-000.

Applicants: C.P. Crane Power, LLC.

Description: C.P. Crane Power, LLC submits tariff filing per 35.15: CP Crane Cancellation Filing to be effective 12/2/2010.

Filed Date: 12/01/2010.

Accession Number: 20101201-5206.

Comment Date: 5 p.m. Eastern Time on Wednesday, December 22, 2010.

Docket Numbers: ER11-2275-000.

Applicants: Midwest Independent System Transmission Operator, Inc.

Description: Report of Midwest Independent System Transmission Operator, Inc.

Filed Date: 12/01/2010.

Accession Number: 20101201-5276.

Comment Date: 5 p.m. Eastern Time on Wednesday, December 22, 2010.

Docket Numbers: ER11-2276-000.

Applicants: Midwest Independent Transmission System Operator, Inc.

Description: Midwest Independent Transmission System Operator, Inc. submits tariff filing per 35.13(a)(2)(i): DEI-DEI WDS x 6 to be effective 12/1/2010.

Filed Date: 12/02/2010.

Accession Number: 20101202-5029.

Comment Date: 5 p.m. Eastern Time on Thursday, December 23, 2010.

Docket Numbers: ER11-2277-000.

Applicants: Midwest Independent Transmission System Operator, Inc.

Description: Midwest Independent Transmission System Operator, Inc. submits the ITC Midwest Joint Pricing Zone Revenue Allocation Agreement, to be effective 12/3/2010.

Filed Date: 12/02/2010.

Accession Number: 20101202-5040.

Comment Date: 5 p.m. Eastern Time on Thursday, December 23, 2010.

Docket Numbers: ER11-2278-000.

Applicants: Duke Energy Indiana, Inc.

Description: Duke Energy Indiana, Inc. Notice of Cancellation.

Filed Date: 12/01/2010.

Accession Number: 20101201-5277.

Comment Date: 5 p.m. Eastern Time on Wednesday, December 22, 2010.

Docket Numbers: ER11-2279-000.

Applicants: Wabash Valley Power Association, Inc.

Description: Wabash Valley Power Association, Inc. submits tariff filing per 35: WVPA Baseline—FERC Electric Tariff Vol No. 1-Section 2—Service Agreements to be effective 12/2/2010.

Filed Date: 12/02/2010.

Accession Number: 20101202-5051.

Comment Date: 5 p.m. Eastern Time on Thursday, December 23, 2010.

Take notice that the Commission received the following public utility holding company filings:

Docket Numbers: PH11-3-000.

Applicants: PPL Corporation.

Description: Notification of Material Change in Facts of PPL Corporation.

Filed Date: 12/01/2010.

Accession Number: 20101201-5231.

Comment Date: 5 p.m. Eastern Time on Wednesday, December 22, 2010.

Docket Numbers: PH11-4-000.

Applicants: The GE Companies.

Description: Revised Form FERC-65A of The GE Companies.

Filed Date: 12/01/2010.

Accession Number: 20101201-5270.

Comment Date: 5 p.m. Eastern Time on Wednesday, December 22, 2010.

Take notice that the Commission received the following electric reliability filings:

Docket Numbers: RR08-4-006.

Applicants: North American Electric Reliability Corporation.

Description: Compliance Filing of the North American Electric Reliability Corporation in Response to the Order on Violation Severity Levels Proposed by the Electric Reliability Organization.

Filed Date: 12/01/2010.

Accession Number: 20101201-5245.

Comment Date: 5 p.m. Eastern Time on Wednesday, December 22, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-30940 Filed 12-8-10; 8:45 am]

BILLING CODE 6717-01-P